DEPARTMENT OF AGRICULTURE

Animal and Plant Health Inspection Service

7 CFR Part 301

[Docket No. APHIS-2006-0046]

Emerald Ash Borer; Quarantined Areas; Indiana, Michigan, and Ohio

AGENCY: Animal and Plant Health Inspection Service, USDA.

ACTION: Interim rule and request for comments.

SUMMARY: We are amending the emerald ash borer regulations by adding areas in Indiana, Michigan, and Ohio to the list of areas quarantined because of emerald ash borer. As a result of this action, the interstate movement of regulated articles from those areas is restricted. This action is necessary to prevent the artificial spread of the emerald ash borer from infested areas in the States of Indiana, Michigan, and Ohio into noninfested areas of the United States.

DATES: This interim rule was effective May 18, 2006. We will consider all comments that we receive on or before July 24, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0046 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to APHIS-2006-0046, Regulatory Analysis and Development, PPD, APHIS, Station 3A-03.8, 4700 River Road Unit 118, Riverdale, MD 20737-1238. Please state that your comment refers to APHIS-2006-0046.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Deborah McPartlan, Operations Officer, Pest Detection and Management Programs, PPQ, APHIS, 4700 River Road Unit 134, Riverdale, MD 20737-1236; (301) 734-4387.

SUPPLEMENTARY INFORMATION:

Background

The emerald ash borer (EAB) (Agrilus planipennis) is a destructive wood-boring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues.

Quarantined Areas

The EAB regulations in 7 CFR 301.53-1 through 301.53-9 (referred to below as the regulations) restrict the interstate movement of regulated articles from quarantined areas to prevent the artificial spread of EAB to noninfested areas of the United States. Portions of the States of Indiana, Michigan, and Ohio are already designated as quarantined areas.

Recent surveys conducted by inspectors of State, county, and city agencies and by inspectors of the Animal and Plant Health Inspection Service (APHIS) have revealed that infestations of EAB have occurred outside the quarantined areas in Indiana, Michigan, and Ohio. Specifically, new infestations of EAB have been detected in Adams, Hamilton, Huntington, Marion, and Randolph Counties, IN; Alcona, Barry, Benzie, Berrien, Charlevoix, Cheboygan, Chippewa, Huron, Ionia, Iosco, Kalamazoo, Kent, Mason, Montcalm, Montmorency, Oceana, Ogemaw, Presque Isle, Roscommon, Sanilac, St. Joseph, and Van Buren Counties, MI; and Defiance, Delaware, Erie, Fulton, Hancock, Henry, Huron, Lorain, Ottawa, Sandusky, Williams, and Wood Counties, OH. Officials of the U.S. Department of Agriculture and officials of State, county, and city agencies in Indiana, Michigan, and Ohio are conducting intensive survey and eradication programs in the infested areas. Indiana, Michigan, and Ohio have quarantined the infested areas and have restricted the intrastate movement of regulated articles from the quarantined areas to prevent the spread of EAB within each State. However, Federal regulations are necessary to restrict the interstate movement of regulated articles from the quarantined areas to prevent the spread of EAB to other States.

The regulations in § 301.53-3(a) provide that the Administrator of APHIS will list as a quarantined area each State, or each portion of a State, where EAB has been found by an inspector, where the Administrator has reason to believe that EAB is present, or where the Administrator considers regulation necessary because of its inseparability for quarantine enforcement purposes from localities where EAB has been found.

Less than an entire State will be designated as a quarantined area only under certain conditions. Such a designation may be made if the Administrator determines that: (1) The State has adopted and is enforcing restrictions on the intrastate movement of regulated articles that are equivalent to those imposed by the regulations on the interstate movement of regulated articles; and (2) the designation of less than an entire State as a quarantined area will be adequate to prevent the artificial spread of the EAB.

In accordance with these criteria and the recent EAB findings described above, we are amending § 301.53-3(c) to add Adams, Hamilton, Huntington, Marion, and Randolph Counties, and the remaining portions of LaGrange and Steuben Counties, IN; portions of Alcona, Barry, Benzie, Berrien, Charlevoix, Cheboygan, Chippewa, Huron, Ionia, Iosco, Kalamazoo, Kent, Mason, Montcalm, Montmorency, Oceana, Ogemaw, Presque Isle, Roscommon, Sanilac, St. Joseph, and Van Buren Counties, MI; and all or portions of Defiance, Delaware, Erie, Fulton, Hancock, Henry, Huron, Lorain, Ottawa, Sandusky, Williams, and Wood Counties, OH, to the list of quarantined areas. An exact description of the quarantined areas can be found in the rule portion of this document.

Emergency Action

This rulemaking is necessary on an emergency basis to help prevent the spread of EAB to noninfested areas of the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the EAB regulations by adding areas in Indiana, Michigan, and Ohio to the list of quarantined areas. As a result of this action, the interstate movement of regulated articles from those areas is restricted. This action is necessary to prevent the artificial spread of this plant pest into noninfested areas of the United States.

This interim rule will affect business entities located within the newly expanded quarantined areas of Indiana, Ohio, and Michigan. In Indiana, this interim rule may affect as many as 26 nurseries, 18 firewood dealers, and approximately 20 ash lumber producers and an unknown number of woodlot owners.¹ However, we do not have information on the exact number of operations that will be subject to movement restrictions in the expanded quarantined area. Only regulated articles to be moved out of the quarantine area will be affected. We welcome information that the public may offer on the number of entities in Indiana and the proportion of their sales that will be affected by the rule.

¹ Robert Waltz, State Entomologist, Indiana Division of Entomology & Plant Pathology, personal communication.

In Ohio, at least 100 nurseries, nursery stock dealers, and landscapers are located within the newly quarantined areas.² Also located within quarantined areas are 60 ash lumber operations, 18 firewood dealers, 10 sawmills, 10 pallet and other wood product manufacturers, and an unknown number of woodlot owners.³ We do not have information on the exact number of operations that will be affected by movement restrictions in Ohio's expanded quarantined area. Again, only restricted articles moved out of the quarantine area. We welcome information that the public may offer on the number of entities in Ohio and the proportion of their sales that will be affected by the rule.

² 2002 U.S. Census of Agriculture, County Data, Table 2.

³ Tom Harrison, Ohio Department of Agriculture, personal communication.

Although more than 7,000 nursery operations are located within the quarantined areas of Michigan, the rule only affects the proportion of nursery stock in these operations that is deciduous shade trees of an ash species. It is also estimated that approximately 5,000 to 6,000 sawmills and firewood dealers are located within or near quarantined areas of the State. The Michigan EAB survey program is currently a statewide effort, and estimated that as many as 15,000 firms and businesses located in quarantined areas may be affected. As with the newly quarantined areas in Ohio and Indiana, we do not have information on the exact number of operations that will be regulated by the interim rule in Michigan newly EAB-infested areas, only that there were around 317 nurseries in that area in 2002. We invite public comment regarding the number of entities in Michigan and the proportion of their sales that will be affected by the rule.

The exact number and size of newly affected entities is unknown. However, it is reasonable to assume that most are small in size according to the U.S. Small Business Administration's standards. The small business size standard based upon the North American Industry Classification System (NAICS) code 111421 (nursery and tree production) is $750,000 or less in annual receipts. The small business size standard based upon NAICS code 113210 (forest nursery and gathering of forest products) is $5 million or less in annual receipts. The small business size standard based upon NAICS codes 113310 (logging operations) and 321113 (sawmills) is 500 or fewer persons employed by the operation.⁴ It is estimated that more than 90 percent of nursery operations located in these States are small operations with annual receipts of less than $750,000 (including nursery operations that sell deciduous shade trees).⁵ It is reasonable to assume that nearly all sawmills and logging operations have 500 or fewer employees, since more then 80 percent of the sawmills located in these States have fewer than 20 employees and each State has an average of 14 to 15 employees per operation.⁶

⁴ Based upon 2002 Census of Agriculture—State Data and the “Small Business Size Standards by NAICS Industry,” Code of Federal Regulations, Title 13, Chapter 1.

⁵ “Nursery Crops: 2003 Summary,” National Agricultural Statistics Service, USDA July 2004.

⁶ “2002 Economic Census: Manufacturing,” U.S. Census Bureau, July 2005 (Indiana, Michigan, and Ohio Geographical reports).

The percentage of annual revenue attributable to ash species alone for affected entities is unknown. However, by way of comparison, only about 10 to 20 of the nurseries in the original quarantined area in Michigan (six counties), that is, 0.2 to 0.5 percent of all nurseries, were expected to be significantly affected by that rule. It is possible that a similarly small percentage of nurseries will be significantly affected in the areas quarantined under this rule.

Under the regulations, regulated articles may be moved interstate from a quarantined area into or through an area that is not quarantined if they are accompanied by a certificate or limited permit. An inspector or a person operating under a compliance agreement will issue a certificate for interstate movement of a regulated article if certain conditions are met, including that the regulated article is determined to be apparently free of EAB.

Businesses could be affected by the regulations in two ways. First, if a business wishes to move regulated articles interstate from a quarantined area, that business must either: (1) Enter into a compliance agreement with APHIS for the inspection and certification of regulated articles to be moved interstate from the quarantined area; or (2) present its regulated articles for inspection by an inspector and obtain a certificate or a limited permit, issued by the inspector, for the interstate movement of regulated articles. The inspections may be inconvenient, but they should not be costly in most cases, even for businesses operating under a compliance agreement who would perform the inspections themselves. For those businesses that elect not to enter into a compliance agreement, APHIS would provide the services of the inspector without cost. There is also no cost for the compliance agreement, certificate, or limited permit for the interstate movement of regulated articles.

Second, there is a possibility that, upon inspection, a regulated article could be determined by the inspector to be potentially infested with EAB, and, as a result, the article would be ineligible for interstate movement under a certificate. In such a case, the entity's ability to move regulated articles interstate would be restricted. However, the affected entity could conceivably obtain a limited permit under the conditions of § 301.53-5(b).

Our experience with administering the EAB regulations and the regulations for other pests, such as the Asian longhorned beetle, that impose essentially the same conditions on the interstate movement of regulated articles lead us to believe that any economic effects on affected small entities will be small and are outweighed by the benefits associated with preventing the spread of EAB into noninfested areas of the United States.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This interim rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 also issued under Sec. 204, Title II, Public Law 106-113, 113 Stat. 1501A-293; sections 301.75-15 and 301.75-16 also issued under Sec. 203, Title II, Public Law 106-224, 114 Stat. 400 (7 U.S.C. 1421 note).

2. In § 301.53-3, paragraph (c) is amended as follows:

a. Under the heading Indiana, by revising the entries for LaGrange County and Steuben County, and by adding, in alphabetical order, entries for Adams County, Hamilton County, Huntington County, Marion County, and Randolph County to read as set forth below.

b. Under the heading Michigan, by:

i. Removing the entry for Barry and Ionia Counties.

ii. In the entry for Montcalm County, designating the description of the Crystal Lake area as paragraph (1) and adding a new paragraph (2) to read as set forth below.

iii. In the entry for Presque Isle County, designating the description of the Ocqueoc Lake area as paragraph (1) and adding a new paragraph (2) to read as set forth below.

iv. In the entry for St. Joseph County, designating the description of the Nottawa/Colon area as paragraph (1) and adding a new paragraph (2) to read as set forth below.

v. Revising the entries for Alcona and Iosco Counties, Berrien County, Oceana County, Roscommon County, and Sanilac County to read as set forth below.

vi. Adding, in alphabetical order, entries for Barry, Ionia, and Kent Counties; Benzie County; Charlevoix County; Cheboygan County; Chippewa County; Huron County; Iosco County; Iosco and Ogemaw Counties; Kalamazoo County; Mason County; Montmorency County; and Van Buren County to read as set forth below.

c. Under the heading Ohio, by revising the entries for Defiance County, Fulton County, Hancock County, Henry County, Ottawa County, Sandusky County, and Wood County, and by adding, in alphabetical order, entries for Delaware County, Erie County, Huron County, Lorain County, and Williams County to read as set forth below.

§ 301.53-3 Quarantined areas.

* * * * *

(c) * * *

Indiana

Adams County. The entire county.

Hamilton County. The entire county.

Huntington County. The entire county.

LaGrange County. The entire county.

Marion County. The entire county.

Randolph County. The entire county.

Steuben County. The entire county.

Michigan

Alcona and Iosco Counties. Cedar Lake/Van Etten area: Greenbush Township in Alcona County in its entirety and that portion of Oscoda Township east of an imaginary line that begins at the intersection of Barlow Road and the Alcona/Iosco County line and runs due south to River Road.

* * * * *

Barry, Ionia, and Kent Counties. Freeport/Lake Odessa area: That portion of the counties bounded by a line drawn as follows: Beginning at the intersection of 84th Street and Wingeier Avenue; then east on 84th Street to Keim Road; then east on Keim Road to Nash Highway; then south on Nash Highway to Campbell Road; then east on Campbell Road to Jackson Road; then south on Jackson Road to Musgrove Highway; the east on Musgrove Highway to Bliss Road; then south on Bliss Road to Martin Road; then south on Martin Road to Jordon Road; then west on Jordon Road to its end and continuing west along the shared boundary between Sections 9 and 16 in Carlton Township to Sisson Road; then west on Sisson Road to Wood School Road; then north on Wood School Road to Baker Avenue; then north on Baker Avenue to 100th Street; then east on 100th Street to Wingeier Avenue; then north on Wingeier Avenue to the point of beginning.

Benzie County. Almira, Homestead, Inland, and Platte area: That portion of the counties bounded by a line drawn as follows: Beginning at the intersection of Ely Road and Hooker Road; then east on Hooker Road to Burnt Mill Road; then south on Burnt Mill Road to Bronson Lake Road; then east on Bronson Lake Road to Marl Road; then south on Marl Road to Fewins Road; then east on Fewins Road to Lamb Road; then south on Lamb Road to Cinder Road; then southwest on Cinder Road to Miller Road; then south on Miller Road to Homestead Road; then west on Homestead Road to Zimmerman Road; then north on Zimmerman Road to Benzie Highway; then east on Benzie Highway to Ely Road; then north on Ely Road to the point of beginning.

Berrien County. (1) Benton area: That portion of Benton Township west of southbound Michigan Route 139 and that part of Benton Harbor south of Main Street and west of Fair Avenue.

(2) Royalton area: That portion of Royalton Township north of Glenlord Road and Michigan Route 63, and west of Michigan Route 139.

(3) Sawyer area: Chickaming Township, City of Bridgman, that portion of Lake Township south of Shawnee Road and west of Date Road, and that portion of Weesaw Township north of Woods Road and west of Pardee Road.

(4) St. Joseph area: St. Joseph Township in its entirety and that portion of the City of St. Joseph south and west of the St. Joseph River.

(5) Watervliet Township and the City of Watervliet.

* * * * *

Charlevoix County. That portion of the county that includes Evangeline Township in its entirety; Boyne City west of Melrose Township; and Eveline Township east of an imaginary line running north/south between the western boundary lines of Bay and Wilson Townships.

Cheboygan County. (1) Cheboygan area: That portion of the county bounded by a line drawn as follows: Beginning at the intersection of Woiderski Road and Inverness Trail Road; then south on Inverness Trail Road to its end and continuing south along an imaginary line to Maple Grove Lane; then east on Maple Grove Lane to Michigan Route 27; then south on Michigan Route 27 to the Inverness/Mullett Township line; then east along the Inverness/Mullett Township line to the Aloha/Benton Township line; then east along the Aloha/Benton Township line to the Benton/Grant Township line; then east along the Benton/Grant Township line to Black River Road; then northwest on Black River Road to Kreft Road; then north on Kreft Road to its end and continuing north along an imaginary line to McCormick Road; then northwest on McCormick Road to Orchard Road; then west on Orchard Road to Upper Mograin Road; then north on Upper Mograin Road to Wartella Road; then west on Wartella Road to Butler Road; then north on Butler Road to Vanyea Road; then west on Vanyea Road to Eastern Avenue; then north on Eastern Road to Lincoln Avenue; then west on Lincoln Avenue to Riggsville Road; then west on Riggville Road to Woiderski Road; then west on Woiderski Road to the point of beginning.

* * * * *

Chippewa County. Brimley area. That portion of the county bounded by a line drawn as follows: Beginning at the intersection of Michigan Route 28 and Crawford Street; then north on Crawford Street to Irish Line Road; then north on Irish Line Road to its end and continuing north along an imaginary line to the Bay Mills/Superior Township line; then north and east along the Bay Mills/Superior Township line to the Lake Superior shoreline; then east along the Lake Superior shoreline to the Bay Mills/Soo Township line; then south on the Bay Mills/Soo Township line to the intersection of the Dafter and Superior Township lines at 6 Mile Road; then south along the Dafter/Superior Township line to Forrest Road; then south on Forrest Road to Michigan Route 28; then west on Michigan Route 28 to the point of beginning.

Note: This quarantined area includes tribal land of the Bay Mills Indian Community. Movement of regulated articles on those lands is subject to tribal jurisdiction.

* * * * *

Huron County. Caseville area: Lake Township in its entirety, and that portion of Caseville Township north of a line drawn as follows: Beginning on the Lake Huron shoreline at Legion Drive; then east on Legion Drive to its end and continuing east along an imaginary line to Gwinn Road; then east on Gwinn Road to the Caseville/Lake Township lines.

* * * * *

Iosco County. Tawas Point area: That portion of the county that includes the City of East Tawas in its entirety and Baldwin Township east of Wilber Road.

Iosco and Ogemaw Counties. Londo Lake area: That portion of Iosco and Ogemaw Counties bounded by a line drawn as follows: Beginning at the intersection of Michigan Route 65 and Kokosing Road; then south on Michigan Route 65 to the intersection of Galion Road and the Reno and Plainsfield Township lines; then west along the Reno and Plainfield Township lines to Peters Road; then west on Peters Road to Sage Lake Road; then north and west on Sage Lake Road to Laird Lake Road; then north along an imaginary line to Short Lake Road; then continuing north on Short Lake Road to East Rose City Road; then east on East Rose City Road to Long Lake Road; then north on Long Lake Road to Kokosing Road; then east on Kokosing Road to the point of beginning.

* * * * *

Kalamazoo County. Leonidas area: That portion of Wakeshma Township south of W Avenue.

* * * * *

Mason County. Ludington area: That portion of the county west of North Lincoln Road, including Hamlin Township.

* * * * *

Montcalm County. (1) Crystal Lake area: * * *

(2) Vestaburg area: That portion of Home Township east of Deja Road and that portion of Richland Township west of Douglas Road.

Montmorency County. Long Lake area: That portion of the county bounded by a line drawn as follows: Beginning at the intersection of County Road 452 and Hubert Road; then west on Hubert Road to the point where it turns northwest; then south from this point along an imaginary line to County Road 628; then west and southwest on County Road 628 to Voyer Lake Road; then south on Voyer Lake Road to Brush Creek Truck Trail; then east on Brush Creek Truck Trail to Pine Oaks Road; then south on Pine Oaks Road to Pleasant Valley Road; the east on Pleasant Valley Road to State Street; then north on State Street to where it becomes County Road 451; then north on County Road 451 to County Road 452; then north on County Road 452 to the point of beginning.

* * * * *

Oceana County. (1) Pentwater area: Pentwater Township, including the Village of Pentwater.

(2) Silver Lake area: That portion of the county bounded by a line drawn as follows: Beginning at the intersection of 48th Avenue and Deer Road; then west on Deer Road to 40th Avenue; then north on 40th Avenue to Lake Road; then west on Lake Road to Ridge Road; then north on Ridge Road to Harrison Road; then west on Harrison Road to its end and continuing west along an imaginary line to the Lake Michigan shoreline; then southwest along the Lake Michigan shoreline to a point due west of the west end of Buchanan Road; then east from that point along an imaginary line to Buchanan Road; then east on Buchanan Road to 48th Avenue; then north on 48th Avenue to the point of beginning.

* * * * *

Presque Isle County. (1) Ocqueoc Lake area: * * *

(2) Posen area: That portion of Posen Township east of Michigan Route 65, and that portion of Krakow Township west of a north-south line defined by Basswood Road and south of the line defined by the northern boundaries of sections 4, 5, and 6 of township 33 north, range 7 east.

Roscommon County. Saint Helen area: That portion of the county bounded by a line drawn as follows: Beginning at the intersection of Interstate 75 and Marl Lake Road; then south and east on Interstate 75 to the Roscommon/Ogemaw County line; then north along the Roscommon/Ogemaw County line to Marl Lake Road; then west on Marl Lake Road to its end and continuing west along an imaginary line to Marl Lake Road; then west on Marl Lake Road to the point of beginning.

* * * * *

Sanilac County. The entire county.

* * * * *

St. Joseph County. (1) Nottawa/Colon area: * * *

(2) Leonidas area: Leonidas Township.

Van Buren County. Hartford/Watervliet area: That portion of Bangor Township south of County Road 376 and west of County Road 687; that portion of Covert Township south of County Road 376 and east of Michigan Route 140; that portion of Hartford Township west of 62nd Street and the City of Hartford; and Watervliet Township and the City of Watervliet.

* * * * *

Ohio

* * * * *

Defiance County. The entire county.

Delaware County. Delaware Township, Orange Township.

Erie County. The entire county, excluding Kelleys Island.

Fulton County. The entire county.

Hancock County. Allen Township, Cass Township, Pleasant Township, Portage Township, and Washington Township.

Henry County. The entire county.

Huron County. Bronson Township, Clarksfield Township, Harland Township, Lyme Township, Norwalk Township, Peru Township, Ridgefield Township, Sherman Township, Townsend Township, and Wakeman Township.

Lorain County. Brownhelm Township, Camden Township, Henrietta Township, and the City of Vermilion.

* * * * *

Ottawa County. The entire county, excluding Ballast, Green, Middle Bass, North Bass, Rattlesnake, South Bass, Starve, and Sugar Islands.

Sandusky County. The entire county.

Williams County. The entire county.

Wood County. The entire county.

Done in Washington, DC, this 18th day of May 2006.
W. Ron DeHaven,
Administrator, Animal and Plant Health Inspection Service.

[FR Doc. 06-4812 Filed 5-23-06; 8:45 am]

BILLING CODE 3410-34-P